DEPARTMENT OF DEFENSE

Office of the Secretary

[Docket ID: DoD-2023-OS-0032]

Submission for OMB Review; Comment Request; Correction

AGENCY: Defense Counterintelligence and Security Agency (DCSA), Department of Defense (DoD).

ACTION: 30-Day information collection notice; correction.

SUMMARY: On August 21, 2023, the DoD published a notice with an incorrect docket identifier. This correction informs the public of the correct docket identifier.

DATES: This correction is effective August 31, 2023.

FOR FURTHER INFORMATION CONTACT: Patricia Toppings, 571-372-0485.

SUPPLEMENTARY INFORMATION: The DoD published a notice on August 21, 2023 (88 FR 56806). Subsequent to publication of the notice, DoD realized that the docket identifier was incorrect. The docket identifier published as “DoD-2023-08083.” The docket identifier is corrected to read as set forth above.

Dated: August 28, 2023.
Aaron T. Siegel,
Alternate OSD Federal Register Liaison Officer, Department of Defense.

[FR Doc. 2023-18856 Filed 8-30-23; 8:45 am]

BILLING CODE 5001-06-P